DEPARTMENT OF DEFENSE

Office of the Secretary

Defense Science Board; Notice of Federal Advisory Committee Meeting

AGENCY: Department of Defense.

ACTION: Notice of Federal Advisory Committee meeting.

SUMMARY: The Defense Science Board (DSB) 2017 Summer Study Task Force on Nuclear Deterrence in the 21st Century's Multi-Polar, Multi-Threat Strategic Environment (“the Nuclear Deterrence 2017 Summer Study Task Force”) will meet in closed session on Tuesday, February 14, 2017, from 7:50 a.m. to 5:00 p.m. at the Virginia Tech Applied Research Center, 900 Glebe Road, 7th Floor, Arlington, VA and Wednesday, February 15, 2017, from 8:00 a.m. to 3:30 p.m. at the Executive Conference Center, 4075 Wilson Blvd., 3rd Floor, Arlington, VA.

DATES: Tuesday, February 14, 2017, from 7:50 a.m. to 5:00 p.m.; Wednesday, February 15, 2017, from 8:00 a.m. to 3:30 p.m.

ADDRESSES: Virginia Tech Applied Research Center, 900 Glebe Road, 7th Floor, Arlington, VA (February 14, 2017); and Executive Conference Center, 4075 Wilson Blvd., Suite 350, Arlington, VA (February 15, 2017).

FOR FURTHER INFORMATION CONTACT: Ms. Debra Rose, Executive Officer, Defense Science Board, 3140 Defense Pentagon, Room 3B888A, Washington, DC 20301-3140, via email at debra.a.rose20.civ@mail.mil, or via phone at (703) 571-0084 or the Defense Science Board Designated Federal Officer (DFO) Ms. Karen D.H. Saunders, Executive Director, Defense Science Board, 3140 Defense Pentagon, Room 3B888A, Washington, DC 20301, via email at karen.d.saunders.civ@mail.mil or via phone at (703) 571-0079.

SUPPLEMENTARY INFORMATION: Due to circumstances beyond the control of the Designated Federal Officer and the Department of Defense, the Defense Science Board was unable to provide public notification concerning it meeting on February 14 through 15, 2017, of the Defense Science Board 2017 Summer Study Task Force on Nuclear Deterrence in the 21st Century's Multi-Polar, Multi-Threat Strategic Environment, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C. Appendix, as amended), the Government in the Sunshine Act of 1976 (5 U.S.C. 552b, as amended), and 41 CFR 102-3.150.

The mission of the Defense Science Board is to provide independent advice and recommendations on matters relating to the DoD's scientific and technical enterprise. The objective of the Nuclear Deterrence Summer Study Task Force is to address the topic of nuclear force modernization and recapitalization, focusing on ways to reduce the affordability problem and on ways to respond to the changing strategic environment through technical, programmatic, and operational innovation. The Nuclear Deterrence 2017 Summer Study Task Force will consider the critical issues associated with the status and trends in major power threats and proliferator s that could threaten the United States or its allies, to include their nuclear, advanced conventional, and cyber capabilities that might threaten the operational viability of our nuclear deterrent; make our ability to control escalation through non-nuclear means problematic; or impact the assurance of U.S. extended deterrence globally. This two-day session will focus on the DoD's Nuclear Weapons, Warheads, and Platforms. This meeting will provide overview briefings to study members on the future plans and programs that the DoD is currently pursuing. Day One briefings will include a mission, organization, and operations overview of the Nuclear Weapons Council by Mr. Wayne Hudson, Principal Deputy to the Deputy Assistant Secretary of Defense for Nuclear Matters; a mission, organization, and operations overview of the U.S. Strategic Command Enterprise by Mr. Jim Colasacco, Chief Global Strike Division, Capability and Resource Integration Directorate, U.S. Strategic Command; an operational and technical presentation on the Air Forces' nuclear platform and warhead programs by the Air Force Nuclear Deterrence Staff; an overview briefing on the Nuclear Command, Control, and Communications domain by Dr. Richard Roca, John Hopkins University Applied Physics Laboratory; an operational and technical presentation on the DoD's nuclear platform and warhead programs by Mr. Tom Troyano, Director, Strategic Systems & Treaty Compliance, OUSD(AT&L); a brief on the Master Plan for Nuclear Warheads and the joint DoD and Department of Energy study on threats to the U.S. ability to maintain its strategic deterrence in support of the Joint Strategic Deterrence Review by Mr. Sean McDonald, National Nuclear Security Administration; and a mission, organization, and operations brief of DoD's Cyber Command. The day two briefing will be an operational and technical presentation on the Navy's nuclear platform and warhead programs by VADM Terry Benedict, Director, Navy Strategy Systems Program. The remainder of this day will be the Nuclear Deterrence 2017 Summer Study Task Force's six panel break-out sessions: Deterrence Theory, Scenarios; Cyber; Conventional Force Elements; Nuclear Weapons; Nuclear Delivery Platforms and NC2; and Experimentation, Exercises, Messaging.

These panels will meet simultaneously to discuss topics to analyze in support of the study. The day will conclude with a full session of the Nuclear Deterrence 2017 Summer Study Task Force to share the discussions from the panel session.

In accordance with section 10(d) of the FACA and 41 CFR 102-2.155, the DoD has determined that the Nuclear Deterrence 2017 Summer Study Task Force meeting will be closed to the public. Specifically, the Under Secretary of Defense (Acquisition, Technology, and Logistics), in consultation with the DoD Office of General Counsel, has determined in writing that all sessions will be closed to the public because they will consider matters covered by 5 U.S.C. 552b(c)(1). The determination is based on the consideration that it is expected that discussions throughout will involve classified matters of national security concern.

Such classified material is so intertwined with the unclassified information that it cannot reasonably be segregated into separate discussions without defeating the effectiveness and meaning of the overall meeting. To permit the meeting to be open to the public would preclude discussion of such matters and would greatly diminish the ultimate utility of the DSB's findings and recommendations to the Secretary of Defense and to the Under Secretary of Defense for Acquisition, Technology, and Logistics.

In accordance with section 10(a)(3) of the FACA and 41 CFR 102-3.l05(j) and 102-3.140, interested persons may submit a written statement for consideration by the Nuclear Deterrence 2017 Summer Study Task Force at any time regarding its mission or in response to the stated agenda of a planned meeting. Individuals submitting a written statement must submit their statement to the DSB's DFO—Ms. Karen D.H. Saunders, Executive Director, Defense Science Board, 3140 Defense Pentagon, Room 3B888A, Washington, DC 20301, via email at Karen.d.saunders.civ@mail.mil or via phone at (703) 571-0079 at any point; however, if a written statement is not received at least 3 calendar days prior to the meeting, which is the subject of this notice, then it may not be provided to or considered by the Nuclear Deterrence 2017 Summer Study Task Force until the next meeting of this task force.

The DFO will review all submissions with the Nuclear Deterrence 2017 Summer Study Task Force co-Chairs and ensure they are provided to Nuclear Deterrence Summer Study Task Force members prior to the end of the two-day meeting on February 15, 2017.

Dated: February 14, 2017.
Aaron Siegel,
Alternate OSD Federal Register Liaison Officer, Department of Defense.

[FR Doc. 2017-03189 Filed 2-16-17; 8:45 am]

BILLING CODE 5001-06-P